FEDERAL COMMUNICATIONS COMMISSION

47 CFR Part 4

[PS Docket No. 21-346, 15-80 and ET Docket 04-35; Report No. 3188; FR ID 115942]

Petition for Clarification and Partial Reconsideration

AGENCY: Federal Communications Commission.

ACTION: Petition for Clarification and Partial Reconsideration.

SUMMARY: Petition for Clarification and Partial Reconsideration (Petition) has been filed in the Commission's proceeding by Thomas C. Power, on behalf of CTIA, et al.

DATES: Oppositions to the Petition must be filed on or before December 19, 2022. Replies to oppositions must be filed on or before December 27, 2022.

ADDRESSES: Federal Communications Commission, 45 L Street NE, Washington, DC 20554.

FOR FURTHER INFORMATION CONTACT: Saswat Misra, Public Safety and Homeland Security Bureau, 202-418-0944 or via email at Saswat.Misra@fcc.gov.

SUPPLEMENTARY INFORMATION: This is a summary of the Commission's document, Report No. 3188, released November 17, 2022. The full text of the Petition can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Resilient Networks; Amendments to part 4 of the Commission's Rules Concerning Disruptions to Communications; New part 4 of the Commission's Rules Concerning Disruptions to Communications, PS Docket Nos. 21-346, 15-80, ET Docket No. 04-35, Report and Order and Further Notice of Proposed Rulemaking, FCC 22-50 (2022), Report and Order, published at 87 FR 59329, September 30, 2022. This document is being published pursuant to 47 CFR 1.429(e). See also 47 CFR 1.4(b)(1) and 1.429(f), (g).

Number of Petitions Filed: 1.

Federal Communications Commission.
Marlene Dortch,
Secretary, Office of the Secretary.

[FR Doc. 2022-26294 Filed 12-1-22; 8:45 am]

BILLING CODE 6712-01-P